DEPARTMENT OF ENERGY

Electricity Advisory Committee, Notice of Open Meeting

AGENCY: Office of Electricity, Department of Energy.

ACTION: Notice of open meeting.

SUMMARY: This notice announces a meeting of the Electricity Advisory Committee. The Federal Advisory Committee Act requires that public notice of these meetings be announced in the Federal Register.

DATES:

Wednesday, June 19, 2019; 12:00 p.m.-6:00 p.m. EST

Thursday, June 20, 2019; 8:00 a.m.-12:00 p.m. EST

ADDRESSES: National Rural Electric Cooperative Association, First Floor Conference Room, 4301 Wilson Blvd., Arlington, Virginia 22203 (Ballston Metro Stop).

FOR FURTHER INFORMATION CONTACT: Christopher Lawrence, Office of Electricity, U.S. Department of Energy, Forrestal Building, Room 8G-017, 1000 Independence Avenue SW, Washington, DC 20585; Telephone: (202) 586-5260 or Email: Christopher.lawrence@hq.doe.gov.

SUPPLEMENTARY INFORMATION:

Purpose of the Committee: The Electricity Advisory Committee (EAC) was established in accordance with the provisions of the Federal Advisory Committee Act (FACA), as amended, 5 U.S.C., App. 2, to provide advice to the U.S. Department of Energy (DOE) in implementing the Energy Policy Act of 2005, executing the Energy Independence and Security Act of 2007, and modernizing the nation's electricity delivery infrastructure. The EAC is composed of individuals of diverse backgrounds selected for their technical expertise and experience, established records of distinguished professional service, and their knowledge of issues that pertain to electricity.

Tentative Agenda

June 19, 2019

12:00 p.m.-1:00 p.m. Registration

1:00 p.m.-1:20 p.m. Welcome, Introductions, Developments since the March 2019 Meeting

1:20 p.m.-1:40 p.m. Update on Office of Electricity Programs and Initiatives

1:40 p.m.-2:00 p.m. Update of Office of Energy Efficiency and Renewable Energy Programs and Initiatives

2:00 p.m.-2:30 p.m. Presentation on Electric Power Research Institute Report on Electromagnetic Pulse and Geomagnetic Disturbance

2:30 p.m.-2:45 p.m. Break

2:45 p.m.-3:15 p.m. Introduction to Bulk Power Operating Reserves

3:15 p.m.-5:00 p.m. Panel Session: Optimizing Bulk Power Operating Reserves

5:00 p.m.-5:15 p.m. Break

5:15 p.m.-5:45 p.m. Energy Storage Subcommittee Update

5:45 p.m.-6:00 p.m. Wrap-up and Adjourn Day 1

June 20, 2019

8:00 a.m.-8:10 a.m. Day 2 Opening Remarks

8:10 a.m.-8:30 a.m. Discussion of Energy Storage Deployment Risks

8:30 a.m.-10:30 a.m. Panel Session: Risk Mitigation for Energy Storage Deployment

10:30 a.m.-10:45 a.m. Break

11:45 a.m.-11:05 a.m. Discussion of Office of Electricity Transmission Permitting and Technical Assistance division State Assistance Activities

11:05 a.m.-11:30 a.m. Smart Grid Subcommittee Update

11:30 a.m.-11:40 a.m. Public Comments

11:40 a.m.-12:00 p.m. Wrap-up and Adjourn

The meeting agenda may change to accommodate EAC business. For EAC agenda updates, see the EAC website at: http://energy.gov/oe/services/electricity-advisory-committee-eac.

Public Participation: The EAC welcomes the attendance of the public at its meetings, no advanced registration is required. Individuals who wish to offer public comments at the EAC meeting may do so on Thursday, June 20, 2019, but must register at the registration table in advance. Approximately 10 minutes will be reserved for public comments. Time allotted per speaker will depend on the number who wish to speak but is not expected to exceed three minutes. Anyone who is not able to attend the meeting, or for whom the allotted public comments time is insufficient to address pertinent issues with the EAC, is invited to send a written statement identified by “Electricity Advisory Committee Open Meeting,” to Mr. Christopher Lawrence at 202-586-1472 (Fax) or email: Christopher.lawrence@hq.doe.gov.

Minutes: The minutes of the EAC meeting will be posted on the EAC web page at http://energy.gov/oe/services/electricity-advisory-committee-eac. They can also be obtained by contacting Mr. Christopher Lawrence at the address above.

Signed in Washington, DC, on May 20, 2019.
Antionette M. Watkins,
Deputy Committee Management Officer.

[FR Doc. 2019-10894 Filed 5-23-19; 8:45 am]

BILLING CODE 6450-01-P